NATIONAL WOMEN'S BUSINESS COUNCIL

Sunshine Act Meeting

SUMMARY: In accordance with the Women's Business Ownership Act, Public Law 105-135 as amended, the National Women's Business Council (NWBC) announces a forthcoming Council meeting and joint meeting of the NWBC and Interagency Committee on Women's Enterprise. The meetings will cover action items worked on by the National Women's Business Council and the Interagency Committee on Women's Enterprise included but not limited to procurement, access to capital and training.

Date: March 14, 2000.

Address:

Joint Meeting

The White House/Old Executive Office Building/Indian Treaty Room, (17th & Penn. Entrance) Washington, DC, 10:30 am to 12:30 pm.

Note: No admittance without prior official clearance. Please have a photo ID.

Date: March 15, 2000.

Address:

Council Meeting

The Hay Adams Hotel/Concorde Room, (16th & H Streets, NW) Washington, DC, 8:00 am to 2:00 pm.

Status: Open to the public.

Contact: National Women's Business Council, 409 Third Street, SW, Suite 210, Washington, DC 20024, (202) 205-3850.

Note: Please call by March 10, 2000.

Gilda Presley,
Administrative Officer, National Women's Business Council.

[FR Doc. 00-4818 Filed 2-24-00; 3:30 pm]

BILLING CODE 6820-AD-M